DEPARTMENT OF COMMERCE

National Oceanic and Atmospheric Administration

RIN 0648-XC864

Pacific Fishery Management Council (Pacific Council); Public Meeting

AGENCY: National Marine Fisheries Service (NMFS), National Oceanic and Atmospheric Administration (NOAA), Commerce.

ACTION: Notice of public meeting.

SUMMARY: The Pacific Council's Salmon Technical Team (STT), Scientific and Statistical Committee (SSC) Salmon Subcommittee, and Model Evaluation Workgroup (MEW) will review proposed salmon methodology changes in a joint work session, which is open to the public.

DATES: The work session will be held Tuesday, October 1, 2013, from 1 p.m. to 4:30 p.m., Wednesday, October 2, 2013, from 9 a.m. to 4:30 p.m., and, if necessary to complete business, Thursday, October 3, 2013, from 9 a.m. to noon.

ADDRESSES: The work session will be held at the Holiday Inn Portland Airport, Mt. Bachelor Room, 8439 NE Columbia Blvd., Portland, OR 97220; telephone: (503) 256-5000.

FOR FURTHER INFORMATION CONTACT: Mike Burner, Staff Officer; telephone: (503) 820-2280.

SUPPLEMENTARY INFORMATION: The purpose of the work session is to discuss and review proposed changes to analytical methods used in salmon management. A list of potential topics for the work session includes but is not limited to: Oregon coastal natural coho marine survival rate index, Lower Columbia River natural coho matrix control rules, forecast methodologies for the Sacramento fall Chinook index, and improved modeling of sublegal Chinook encounters. The final list of topics for consideration at the work session is scheduled to be adopted by the Council at their September 12-17, 2013 meeting in Boise, ID.

Although non-emergency issues not contained in the meeting agenda may come before the STT, SSC Salmon Subcommittee, and MEW for discussion, those issues may not be the subject of formal action during this meeting. Action will be restricted to those issues specifically listed in this notice and any issues arising after publication of this notice that require emergency action under Section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt at (503) 820-2280 at least 5 days prior to the meeting date.

Dated: September 10, 2013.
Tracey L. Thompson,
Acting Deputy Director, Office of Sustainable Fisheries, National Marine Fisheries Service.

[FR Doc. 2013-22292 Filed 9-12-13; 8:45 am]

BILLING CODE 3510-22-P